DEPARTMENT OF COMMERCE

National Oceanic and Atmospheric Administration

50 CFR Part 660

[Docket No. 010419099-1099-01; I.D. 040201A]

RIN 0648-AP19

Fisheries off West Coast States and in the Western Pacific; Western Pacific Pelagic Fisheries; Hawaiian Islands; Control Date

AGENCY: National Marine Fisheries Service (NMFS), National Oceanic and Atmospheric Administration (NOAA), Commerce.

ACTION: Advance notice of proposed rulemaking; consideration of a control date; request for comments.

SUMMARY: This document announces that persons who enter the offshore pelagic handline fishery around the Cross Seamount, four NOAA weather buoys, and the “Bigeye Buoy” in the U.S. exclusive economic zone (EEZ) around Hawaii, after February 15, 2001 (control date), may not be assured of continued participation in the fishery if, in the future, the Western Pacific Fishery Management Council (Council) prepares, and NMFS approves, a program limiting entry or effort. This control date supersedes the previous control date of July 2, 1992. This document does not commit the Council to limiting effort or preclude the Council from using any other date for determining future participation in this fishery. The Council may also use other criteria to limit fishing effort or participation in a limited entry program if one is developed in the future.

DATES: Comments must be submitted by July 2, 2001.

ADDRESSES: Submit written comments to Dr. Charles Karnella, Administrator, NMFS, Pacific Islands Area Office (PIAO), 1601 Kapiolani Blvd., Suite 1110, Honolulu, HI 96814-4700; or fax to 808-973-2941. Comments will not be accepted if submitted via e-mail or the Internet.

FOR FURTHER INFORMATION CONTACT: Alvin Katekaru, PIAO, 808-973-2937.

SUPPLEMENTARY INFORMATION: At its 108th meeting, the Council established February 15, 2001, as a new control date for the offshore pelagic handline fishery around the Hawaiian Islands. The previously established control date (July 2, 1992) is more than 8 years old and considered to be outdated (57 FR 36637, August 14, 1992). The new control date, which supersedes the old control date, applies to the Cross Seamount, four NOAA weather buoys, and one University of Hawaii research buoy off the Hawaiian Islands (“Bigeye Buoy”). The precise areas of application would be determined in a future rulemaking, should the Council decide to proceed with limiting entry or effort. This action responds to concerns associated with changes to the management program governing the Hawaii-based pelagic longline fishery, the participants of which may switch to the offshore pelagic handline fishery resulting in the substantial and unregulated expansion of the currently small fishery.

At present, the fishery consists of 15 to 20 Hawaii-based, small fishing vessels (<50 ft or 15.2 m) employing hook and line handline gear to target bigeye and yellowfin tuna that are seasonally abundant at the Cross Seamount and four NOAA weather buoys, located about 160 nautical miles from the islands of Hawaii. A fifth buoy, the “Bigeye Buoy” was placed in the same vicinity approximately 2 years ago by University of Hawaii fishery researchers studying bigeye habitat. This buoy has also been found to aggregate fish and has been utilized by Hawaii-based pelagic handline vessels. The vessels in this fishery primarily operate from the island of Hawaii, although one or two are based on the island of Oahu.

The Council believes that there is a risk of speculative entry into the fishery while the potential benefits and costs of limited entry alternatives and the development of a regulatory amendment to address a substantially expanded fishery are being evaluated. The control date is designed to discourage speculative entry during this period of analysis, as well as to provide notification to new participants that their access may be restricted in the future. The control date does not commit the Council or NMFS to any particular management regime or criteria for entry into the offshore pelagic handline fishery. Fishermen are not guaranteed future participation in this fishery, regardless of their level of participation before or after the control date. The Council may choose a different control date or it may choose a management regime that does not involve a control date. Other criteria, such as documentation of commercial landings and sales, may be used to determine eligibility for participation in the fishery. The Council may also choose to take no further action to control entry or access to the fishery.

Authority: 16 U.S.C. 1801 et seq.

Dated: May 13, 2001.
William T. Hogarth,
Acting Assistant Administrator for Fisheries, National Marine Fisheries Service.

[FR Doc. 01-12605 Filed 5-17-01; 8:45 am]

BILLING CODE 3510-22-S